NUCLEAR REGULATORY COMMISSION

[Docket Nos. 50-334; 50-412; 50-456; 50-457; 50-244; 50-352; 50-353; 50-528; 50-529; 50-530; 72-44; 50-254; 50-265; 50-443; NRC-2020-0110]

Energy Harbor Nuclear Corp.; Exelon Generation Company, LLC; NextEra Energy Seabrook, LLC; Arizona Public Service Company

AGENCY: Nuclear Regulatory Commission.

ACTION: Exemptions; issuance.

SUMMARY: The U.S. Nuclear Regulatory Commission (NRC) issued seven exemptions in response to requests from Energy Harbor Nuclear Corp.; Exelon Generation Company, LLC; NextEra Energy Seabrook, LLC; and Arizona Public Service Company. The exemptions allow the licensees to deviate from specific work hours requirements of the NRC's “Fitness for Duty Programs” regulation and use site-specific fatigue management controls, in response to the COVID-19 public health emergency (PHE). The NRC is issuing a single notice to announce the issuance of these exemptions.

DATES: The seven exemptions were issued between April 3, 2020, and April 20, 2020.

ADDRESSES: Please refer to Docket ID NRC-2020-0110 when contacting the NRC about the availability of information regarding this document. You may obtain publicly-available information related to this document using any of the following methods:

• Federal Rulemaking Website: Go to https://www.regulations.gov and search for Docket ID NRC-2020-0110. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

For the convenience of the reader, instructions about obtaining materials referenced in this document are provided in the “Availability of Documents” section.

FOR FURTHER INFORMATION CONTACT: James Danna, Office of Nuclear Reactor Regulation, U.S. Nuclear Regulatory Commission, Washington, DC 20555-0001; telephone: 301-415-7422, email: James.Danna@nrc.gov.

SUPPLEMENTARY INFORMATION:

I. Introduction

The NRC issued seven exemptions in response to requests dated between April 2, 2020, and April 18, 2020, from Energy Harbor Nuclear Corp.; Exelon Generation Company, LLC; NextEra Energy Seabrook, LLC; and Arizona Public Service Company. The exemptions allow the licensees to deviate from specific requirements (cited below) of Title 10 of the Code of Federal Regulations (10 CFR) Part 26, “Fitness for Duty Programs,” Section 26.205, “Work hours.”

The exemptions from 10 CFR 26.205(d)(1) through (7) ensure that the control of work hours and management of worker fatigue do not unduly limit licensee flexibility in using personnel resources to most effectively manage the impacts of the COVID-19 PHE on maintaining the safe operation of these facilities. Specifically, the licensees stated that their staffing levels are affected or are expected to be affected by the COVID-19 PHE, and they can no longer meet or likely will not meet the work hour controls of 10 CFR 26.205(d)(1) through (d)(7). The licensees have committed to effecting site-specific administrative controls for COVID-19 PHE fatigue-management for personnel specified in 10 CFR 26.4(a).

The NRC is periodically providing this compiled listing of related exemptions using a single Federal Register notice for COVID-19 related exemptions, instead of issuing individual Federal Register notices. The compiled listing provides transparency regarding the number of exemptions the NRC is issuing related to a given regulatory requirement. Additionally, the NRC publishes a list of approved licensing actions related to the COVID-19 PHE on its public website at https://www.nrc.gov/about-nrc/covid-19/reactors/licensing-actions.html.

II. Availability of Documents.

The table below provides the plant name, docket number, and ADAMS accession number for each exemption issued. Additional details on each exemption issued, including the exemption request submitted by the respective licensee, are provided in each exemption approval listed below. For additional directions on accessing information in ADAMS, see the ADDRESSES section of this document.

Document title | ADAMS accession No.
Beaver Valley Power Station, Units 1 and 2
Docket Nos. 50-334 and 50-412
Beaver Valley Work Hour Rule Exemption Request Due to Pandemic (L-20-140) dated April 18, 2020 | ML20109A008
Beaver Valley Power Station, Units 1 and 2—Verbal Part 26 Exemption—Delivered 4/18/20 at 7:00 p.m | ML20109A010
Beaver Valley Power Station, Units 1 and 2—Exemption from Select Requirements of 10 CFR Part 26 (EPID L-2020-LLE-0025 [COVID-19]) dated April 20, 2020 | ML20109A000
Braidwood Station, Units 1 and 2
Docket Nos. 50-456 and 50-457
Braidwood Work Hours Control Exemption Request dated April 9, 2020 | ML20100M588
Braidwood Station, Units 1 and 2—Exemption from Select Requirements of 10 CFR Part 26 (EPID L-2020-LLE-0020 [COVID-19]) dated April 13, 2020 | ML20099A519
R. E. Ginna Nuclear Power Plant
Docket No. 50-244
Ginna—Planned Actions re Requirements for Work Hour Controls During Coronavirus Disease 2019 (COVID-19) Public Health Emergency dated April 6, 2020 | ML20097D488
R. E. Ginna Nuclear Power Plant—Exemption from Select Requirements of 10 CFR Part 26 (EPID L-2020-LLE-0016 [COVID-19]) dated April 6, 2020 | ML20095H256
Limerick Generating Station, Units 1 and 2
Docket Nos. 50-352 and 50-353
Limerick [50-352, 50-353] Actions Related to the Requirements for Work Hour Controls During the Coronavirus Disease 2019 Public Health Emergency) dated April 2, 2020 | ML20093M206
Limerick Generating Station, Units 1 and 2—Exemption from Select Requirements of 10 CFR Part 26 (EPID L-2020-LLE-0014 [COVID-19]) dated April 3, 2020 | ML20093M820
Palo Verde Nuclear Generating Station, Units 1, 2, and 3
Docket Nos. 50-528, 50-529, 50-530, and 72-44
Palo Verde Nuclear Generating Station Units 1, 2 & 3 and Independent Spent Fuel Storage Installation (ISFSI)—Request for Exemption from Specific Requirements of 10 CFR Part 26, Fitness for Duty Programs dated April 14, 2020 | ML20105A481
Palo Verde Nuclear Generating Station, Units 1, 2, and 3—Exemption from Select Requirements of 10 CFR Part 26 (EPID L-2020-LLE-0024 [COVID-19]) dated April 16, 2020 | ML20107F835
Quad Cities Nuclear Power Station, Units 1 and 2
Docket Nos. 50-254 AND 50-265
Quad Cities Nuclear Power Station Actions Related to the Requirements for Work Hour Controls During the Coronavirus Disease 2019 Public Health Emergency dated April 7, 2020 | ML20098G313
Quad Cities Nuclear Power Station, Units 1 and 2—Exemption from Select Requirements of 10 CFR Part 26 (EPID L-2020-LLE-0018 [COVID-19]) dated April 8, 2020 | ML20099A499
Seabrook Station, Unit No. 1
Docket No. 50-443
Seabrook Station—Requesting NRC Approval to Proactively Enter into the Alternative Work Hour Controls Delineated in NRC Letter from H. Nieh to NEI Dated March 28, 2020 During COV-19 Public Health Emergency dated April 10, 2020 | ML20101M597
Seabrook Station, Unit No. 1—Exemption from Select Requirements of 10 CFR Part 26 (EPID L-2020-LLE-0021 [COVID-19]) dated April 13, 2020 | ML20101G991

The NRC may post additional materials to the Federal rulemaking website at https://www.regulations.gov under Docket ID NRC-2020-0110. The Federal rulemaking website allows you to receive alerts when changes or additions occur in a docket folder. To subscribe: (1) Navigate to the docket folder (NRC-2020-0110); (2) click the “Sign up for Email Alerts” link; and (3) enter your email address and select how frequently you would like to receive emails (daily, weekly, or monthly).

Dated: May 7, 2020.
For the Nuclear Regulatory Commission.
James G. Danna,
Chief, Plant Licensing Branch I, Division of Operating Reactor Licensing, Office of Nuclear Reactor Regulation.

[FR Doc. 2020-10138 Filed 5-11-20; 8:45 am]

BILLING CODE 7590-01-P